DEPARTMENT OF HEALTH AND HUMAN SERVICES

Centers for Medicare & Medicaid Services

[Document Identifier: CMS-10142 and CMS-R-262]

Emergency Clearance: Public Information Collection Requirements Submitted to the Office of Management and Budget (OMB)

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding the burden estimates or any other aspects of these collections of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

We are, however, requesting an emergency review of the information collections referenced below. In compliance with the requirement of section 3506(c)(2)(A) of the Paperwork Reduction Act of 1995, we have submitted to the Office of Management and Budget (OMB) the following requirements for emergency review. We are requesting emergency review because these collections of information are needed before the expiration of the normal time limits under OMB's regulations at 5 CFR part 1320. This is necessary to ensure compliance with an initiative of the Administration. We cannot reasonably comply with the normal clearance procedures because the normal procedures are likely to cause a statutory deadline to be missed.

CMS is requesting OMB review and approval of these collections by March 18, 2005, with a 180-day approval period. Written comments and recommendations will be accepted from the public if received by the individuals designated below by March 17, 2005.

1. Type of Information Collection Request: New collection; Title of Information Collection: Bid Pricing Tool (BPT) for Medicare Advantage Organizations (MAOs) and Prescription Drug Plans (PDPs) and Supporting Regulations in 42 CFR 422.250, 422.252 422.254, 422.256, 422.258, 422.262, 422.264, 422.266, 422.270, 422.300, 422.304, 422.306, 422.308, 422.310, 422.312, 422.314, 422.316, 422.318, 422.320, 422.322, 422.324, 423.251, 423.258, 423.265, 423.272, 423.279, 423.286, 423.293, 423.301, 423.308, 423.315, 423.322, 423.329, 423.336, 423.343, 423.346, and 423.350; Use: Under the Medicare Modernization Act (MMA), Medicare Advantage Organizations (MAOs) and Prescription Drug Plans (PDPs) are required to submit an actuarial pricing bid for each plan for approval by CMS. MAOs and PDPs use the Bid Pricing Tool (BPT) software to develop their actuarial pricing bid. CMS uses the BPT to review and approve the plan pricing proposed by each organization. CMS requires that MAOs and PDPs complete the BPT as part of the annual bid process. During this process, organizations prepare their proposed actuarial bid pricing for the upcoming contract year and submit them to CMS for review and approval. The purpose of the BPT is to collect the actuarial pricing for each plan. The BPT calculates the plan's bid, enrollee premium(s), and any rebates or savings; Form Number: CMS-10142 (OMB#: 0938-NEW); Frequency: On occasion, annually, and as required by new legislation; Affected Public: Business or other for-profit and not-for-profit institutions; Number of Respondents: 350; Total Annual Responses: 350; Total Annual Hours: 12,050.

2. Type of Information Collection Request: Revision of a currently approved collection; Title of Information Collection: Plan Benefit Package (PBP) and Formulary Submission for Medicare Advantage (MA) Plans and Prescription Drug Plans (PDPs); Use: Under the Medicare Modernization Act (MMA), Medicare Advantage (MA) and Prescription Drug Plan (PDPs) organizations are required to submit plan benefit packages for all Medicare beneficiaries residing in their service area. MA and PDP organizations will generate a formulary to illustrate their preferred list of drugs, including information on prior authorization, step therapy, tiering, and quantity limits. Additionally, the PBP software will be used to describe their organization's plan benefit packages, including information on premiums, cost sharing, authorization rules, and supplemental benefits. CMS uses the formulary and PBP data to review and approve the plan benefit packages proposed by each MA and PDP organization. The formulary is a new requirement under MMA; therefore, a revision to this currently approved information collection is necessary; Form Number: CMS-R-262 (OMB#: 0938-0763); Frequency: On occasion and as required by new legislation; Affected Public: Business or other for-profit and not-for-profit institutions; Number of Respondents: 470; Total Annual Responses: 2,092; Total Annual Hours: 5,546.

To obtain copies of the supporting statement and any related forms for the proposed paperwork collections referenced above, access CMS' Web site address at http://www.cms.hhs.gov/regulations/pra or e-mail your request, including your address, phone number, OMB number, and CMS document identifier, to Paperwork@cms.hhs.gov, or call the Reports Clearance Office on (410) 786-1326.

Interested persons are invited to send comments regarding the burden or any other aspect of these collections of information requirements. However, as noted above, comments on these information collection and recordkeeping requirements must be mailed and/or faxed to the designees referenced below by March 17, 2005:

CMS, Office of Strategic Operations and Regulatory Affairs, Division of Regulations Development, 7500 Security Boulevard, Room C5-14-03, Baltimore, MD 21244-1850, Attn: Melissa Musotto, CMS-10142 and CMS-R-262, Fax Number: 410-786-3064; and,

OMB Human Resources and Housing Branch, New Executive Office Building, Room 10235, Washington, DC 20503, Attention: Christopher Martin, Desk Officer, Fax Number: 202-395-6974.

Dated: February 17, 2005.
John P. Burke, III,
CMS Paperwork Reduction Act Reports Clearance Officer, Office of Strategic Operations and Regulatory Affairs, Regulations Development Group.

[FR Doc. 05-3550 Filed 2-24-05; 8:45 am]

BILLING CODE 4120-03-P